COMMISSION ON OCEAN POLICY

Public Meeting

AGENCY: Commission on Ocean Policy.

ACTION: Notice.

SUMMARY: The U.S. Commission on Ocean Policy will hold a meeting to discuss the development of recommendations for a coordinated national ocean policy. This will be the thirteenth public Commission meeting.

DATES: The public meeting will be held Friday, November 22, 2002, from 8:30 a.m. to 6 p.m.

ADDRESSES: The meeting location is the Amphitheater, Ronald Reagan Building and International Trade Center, 1300 Pennsylvania Ave, NW., Washington DC 20004.

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Public Law 106-256, section 3(e)(1)(E)). The agenda will include discussions of policy options, presentations by invited speakers, a public comment session, and any required administrative discussions and executive sessions. Invited speakers and members of the public are requested to submit their statements for the record electronically by Wednesday, November 13, 2002 to the meeting Point of Contact. The meeting agenda, including the specific time for the public comment period, and guidelines for making public comments will be posted on the Commission's website at http://www.oceancommission.gov prior to the meeting.

Dated: October 25, 2002.
Thomas R. Kitsos,
Executive Director, U.S. Commission on Ocean Policy.

[FR Doc. 02-27738 Filed 10-30-02; 8:45 am]

BILLING CODE 6820-WM-P